DEPARTMENT OF COMMERCE

Minority Business Development Agency

[Docket No.: 071121729-81040-02]

Extension of the Award Period for Certain Native American Business Enterprise Centers

AGENCY: Minority Business Development Agency, Commerce.

ACTION: Notice.

SUMMARY: The Minority Business Development Agency (MBDA) is publishing this notice to allow for up to a twelve (12) month funded extension, on a non-competitive basis, of the overall award periods for those Native American Business Enterprise Centers (NABECs) identified in this notice. MBDA is taking this action to allow for continued program delivery by the incumbent NABECs operators while MBDA completes the competitive solicitation and award processes for the next three (3) year award period for these projects.

DATES: The award period and related funding, if approved by the Department of Commerce Grants Officer, will commence September 1, 2008 and will continue for a period not to exceed twelve (12) months.

FOR FURTHER INFORMATION CONTACT: Mr. Efrain Gonzalez, Chief, Office of Business Development, Minority Business Development Agency, 1401 Constitution Avenue, NW., Room 5075, Washington, DC 20230. Mr. Gonzalez may be reached by telephone at (202) 482-1940 and by e-mail at egonzalez@mbda.gov.

SUPPLEMENTARY INFORMATION: Pursuant to Executive Order 11625, the NABEC Program provides standardized business assistance and development services directly to eligible Native American and minority-owned businesses. The NABEC Program is a key component of MBDA's overall business development assistance program and promotes the growth and competitiveness of minority business enterprises and further incorporates an entrepreneurial approach to the delivery of client services. This entrepreneurial strategy expands the reach and service delivery of the NABEC Program by requiring project operators to develop and to build upon strategic alliances with public and private sector partners as a means of serving eligible businesses within each NABEC applicable geographical service area.

This notice amends MBDA's prior Federal Register notice dated May 11, 2007 (72 FR 26783), to allow for up to a 12-month funded extension, on a non-competitive basis, of the overall award period for the following two NABECs: New Mexico NABEC (American Indian Chamber of Commerce); and the Oklahoma NABEC (Rural Enterprises of Oklahoma, Inc.). MBDA is taking this action to allow for continued program delivery by the incumbent NABEC operators while MBDA completes the competitive solicitation and award processes for the next 3-year award period for these projects.

The allowable award extensions and additional funding set forth herein will be made at the sole discretion of MBDA and the Department of Commerce (Department). In making such determinations, the following factors will be considered: (1) Whether the NABEC operator is currently performing at a “Satisfactory” (or better) program performance level at the time the Grants Officer approves the extension; (2) the availability of appropriated funds; and (3) MBDA and Department priorities. The project's performance rating will be evaluated through the standardized performance reports and assessments required under the NABEC Program.

In no event will MBDA or the Department of Commerce be responsible to cover any costs incurred outside of the current award period by the incumbent operators of the NABEC projects affected by this notice if these NABEC projects are delayed, suspended or cancelled because of other MBDA or Department priorities. Publication of this announcement does not oblige MBDA or the Department to award any extensions or to obligate any available funds for such purpose.

Department of Commerce Pre-Award Notification Requirements for Grants and Cooperative Agreements

The Department of Commerce Pre-Award Notification Requirements for Grants and Cooperative Agreements contained in the February 11, 2008 Federal Register notice (73 FR 7696) are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: August 6, 2008.
Ronald N. Langston,
National Director, Minority Business Development Agency.

[FR Doc. E8-18498 Filed 8-8-08; 8:45 am]

BILLING CODE 3510-21-P